DEPARTMENT OF LABOR

Mine Safety and Health Administration

30 CFR Parts 6, 7, 15, 18, 19, 20, 22, 23, 27, 28, 33, 35, 36, and 74

MSHA Approval and Certification Center Address Change

AGENCY: Mine Safety and Health Administration (MSHA), Labor.

ACTION: Final rule, technical amendment.

SUMMARY: MSHA is amending its regulations to update the mailing address of the U.S. Department of Labor, Mine Safety and Health Administration, Approval and Certification Center (Center) in Triadelphia, West Virginia. The address of the Center has changed since publication of the regulations.

DATES: Effective Date: September 9, 2008.

FOR FURTHER INFORMATION CONTACT: Patricia W. Silvey, Director, Office of Standards, Regulations, and Variances, MSHA, 1100 Wilson Blvd., Room 2350, Arlington, Virginia 22209-3939, silvey.patricia@dol.gov (e-mail), (202) 693-9440 (voice), or (202) 693-9441 (telefax). This document is available on the Internet at http://www.msha.gov/REGSINFO.HTM.

SUPPLEMENTARY INFORMATION: The U.S. Postal Service has changed the mailing address for MSHA's Technical Support Approval and Certification Center. The new mailing address is: U.S. Department of Labor, Mine Safety and Health Administration, 765 Technology Drive, Triadelphia, WV 26059. This change was required by the Center's local fire and rescue squad so that 911 emergency personnel can identify locations accurately in case of an emergency. Accordingly, the regulations in 30 CFR 6.30(a), 7.3(a), 7.10(c)(1), 7.304(g)(2)(ii), 15.4(a), 18.3, 18.6(a)(3)(i), 18.6(a)(4), 18.80(a), 18.81(a), 18.82(a), 18.82(c), 19.3(a), 19.4(a), 19.13(a)(1), 20.3(a), 20.5(a), 20.14(a)(1), 22.4(a), 22.5(a), 22.11(a)(1), 22.3(a), 23.5(a), 23.14(a)(1), 27.3, 27.4(a)(1), 28.10(c), 28.31(b), 28.40(d), 33.3, 33.6(a)(1), 35.3, 35.6(a)(1), 35.6(g), 36.3, 36.6(a)(1), and 74.6(a) are amended to reflect the new mailing address. This action is being taken for accuracy and to improve emergency response capability. This technical amendment does not meet the definition of “rule” in 5 U.S.C. 551(4). Therefore, it is not subject to the rule making requirements in 5 U.S.C. 553. This action also does not constitute a “regulatory action” subject to Executive Order 12866, as amended.

List of Subjects in 30 CFR Parts 6, 7, 15, 18, 19, 20, 22, 23, 27, 28, 33, 35, 36, and 74.

Mine safety and health.

Patricia W. Silvey,
Director, Office of Standards, Regulations and Variances.

Accordingly, under the authority of 30 U.S.C. 957, chapter I of title 30, Code of Federal Regulations is amended as follows:

PART 6—TESTING AND EVALUATION BY INDEPENDENT LABORATORIES AND NON-MSHA PRODUCT SAFETY STANDARDS

1. The authority citation for part 6 continues to read as follows:

Authority: 30 U.S.C. 957.

2. Section 6.30 is amended by revising the third sentence of paragraph (a) to read as follows:

§ 6.30 MSHA listing of equivalent non-MSHA product safety standards.

* * * * *

(a) * * * The IEC standards may be inspected at the U.S. Department of Labor, Mine Safety and Health Administration, Electrical Safety Division, Approval and Certification Center, 765 Technology Drive, Triadelphia, WV 26059, and may be purchased from International Electrical Commission, Central Office 3, rue de Varembé, P.O. Box 131, CH-1211 GENEVA 20, Switzerland.

* * * * *

PART 7—TESTING BY APPLICANT OR THIRD PARTY

3. The authority citation for part 7 continues to read as follows:

Authority: 30 U.S.C. 957.

4. Section 7.3 is amended by revising paragraph (a) to read as follows:

§ 7.3 Application procedures and requirements.

(a) Application. Requests for an approval or extension of approval shall be sent to: U.S. Department of Labor, Mine Safety and Health Administration, Approval and Certification Center, 765 Technology Drive, Triadelphia, WV 26059.

* * * * *

5. Section 7.10 is amended by revising the third sentence of paragraph (c)(1) introductory text to read as follows:

§ 7.10 MSHA acceptance of equivalent non-MSHA product safety standards.

* * * * *

(c) * * *

(1) * * * The IEC standards may be inspected at the U.S. Department of Labor, Mine Safety and Health Administration, Electrical Safety Division, Approval and Certification Center, 765 Technology Drive, Triadelphia, WV 26059, or at the National Archives and Records Administration (NARA). * * *

* * * * *

6. Section 7.304 is amended by revising the fourth sentence of paragraph (g)(2)(ii) to read as follows:

§ 7.304 Technical requirements.

* * * * *

(g) * * *

(2) * * *

(i) * * *

(ii) * * * Copies may be inspected at the U.S. Department of Labor, Mine Safety and Health Administration, Approval and Certification Center, 765 Technology Drive, Triadelphia, WV 26059, or at the National Archives and Records Administration (NARA). * * *

* * * * *

PART 15—REQUIREMENTS FOR APPROVAL OF EXPLOSIVES AND SHEATHED EXPLOSIVE UNITS

7. The authority citation for part 15 continues to read as follows:

Authority: 30 U.S.C. 957.

8. Section 15.4 is amended by revising paragraph (a) to read as follows:

§ 15.4 Application procedures and requirements.

(a) Application. Requests for an approval or an extension of approval under this part shall be sent to: U.S. Department of Labor, Mine Safety and Health Administration, Approval and Certification Center, 765 Technology Drive, Triadelphia, WV 26059.

* * * * *

PART 18—ELECTRIC MOTOR-DRIVEN MINE EQUIPMENT AND ACCESSORIES

9. The authority citation for part 18 continues to read as follows:

Authority: 30 U.S.C. 957 and 961.

10. Section 18.3 is amended by revising the first sentence to read as follows:

§ 18.3 Consultation.

By appointment, applicants or their representatives may visit the U.S. Department of Labor, Mine Safety and Health Administration, Approval and Certification Center, 765 Technology Drive, Triadelphia, WV 26059, to discuss a proposed design to be submitted for approval, certification, or acceptance for listing. * * *

11. Section 18.6 is amended by revising the third sentence of paragraph (a)(3)(i) and paragraph (a)(4) to read as follows:

§ 18.6 Applications.

(a) * * *

(3) * * *

(i) * * * The IEC standards may be inspected at the U.S. Department of Labor, Mine Safety and Health Administration, Electrical Safety Division, Approval and Certification Center, 765 Technology Drive, Triadelphia, WV 26059, or at the National Archives and Records Administration (NARA). * * *

* * * * *

(4) The application, all related documents, and all correspondence concerning it shall be addressed to the U.S. Department of Labor, Mine Safety and Health Administration, Approval and Certification Center, 765 Technology Drive, Triadelphia, WV 26059.

* * * * *

12. Section 18.80 is amended by revising paragraph (e) to read as follows:

§ 18.80 Approval of machines assembled with certified or explosion-proof components.

* * * * *

(e) Approvals are issued only by the U.S. Department of Labor, Mine Safety and Health Administration, Approval and Certification Center, 765 Technology Drive, Triadelphia, WV 26059.

13. Section 18.81 is amended by revising the second sentence of paragraph (a) to read as follows:

§ 18.81 Field modification of approved (permissible) equipment; application for approval of modification; approval of plans for modification before modification.

(a) * * * The application, together with the plans of modifications, shall be filed with the U.S. Department of Labor, Mine Safety and Health Administration, Approval and Certification Center, 765 Technology Drive, Triadelphia, WV 26059.

* * * * *

14. Section 18.82 is amended by revising the second sentence of paragraph (a) and the first sentence of paragraph (c) to read as follows:

§ 18.82 Permit to use experimental electric face equipment in a gassy mine or tunnel.

(a) * * * The user shall submit a written application to the Assistant Secretary of Labor for Mine Safety and Health, 1100 Wilson Blvd., Room 2322, Arlington, Virginia 22209-3939, and send a copy to the U.S. Department of Labor, Mine Safety and Health Administration, Approval and Certification Center, 765 Technology Drive, Triadelphia, WV 26059.

* * * * *

(c) * * * Unless equipment is delivered to MSHA for investigation, the applicant shall notify the U.S. Department of Labor, Mine Safety and Health Administration, Approval and Certification Center, 765 Technology Drive, Triadelphia, WV 26059, when and where the experimental equipment will be ready for inspection by a representative of MSHA before installing it on a trial basis. * * *

* * * * *

PART 19—ELECTRIC CAP LAMPS

15. The authority citation for part 19 continues to read as follows:

Authority: 30 U.S.C. 957 and 961.

16. Section 19.3 is amended by revising the second sentence of paragraph (a) to read as follows:

§ 19.3 Application procedures and requirements.

(a) * * * This application shall be sent to: U.S. Department of Labor, Mine Safety and Health Administration, Approval and Certification Center, 765 Technology Drive, Triadelphia, WV 26059, together with the required drawings, one complete lamp, and instructions for its operation. * * *

* * * * *

17. Section 19.4 is amended by revising the second sentence of paragraph (a) to read as follows:

§ 19.4 Conditions governing investigations.

(a) * * * This material should be sent prepaid to the U.S. Department of Labor, Mine Safety and Health Administration, Approval and Certification Center, 765 Technology Drive, Triadelphia, WV 26059.

* * * * *

18. Section 19.13 is amended by revising the first sentence of paragraph (a)(1) to read as follows:

§ 19.13 Instructions for handling future changes in lamp design.

* * * * *

(a)(1) The manufacturer shall write to the U.S. Department of Labor, Mine Safety and Health Administration, Approval and Certification Center, 765 Technology Drive, Triadelphia, WV 26059, requesting an extension of the original approval and stating the change or changes desired. * * *

* * * * *

PART 20—ELECTRIC MINE LAMPS OTHER THAN STANDARD CAP LAMPS

19. The authority citation for part 20 continues to read as follows:

Authority: 30 U.S.C. 957 and 961.

20. Section 20.3 is amended by revising the second sentence of paragraph (a) to read as follows:

§ 20.3 Application procedures and requirements.

(a) * * * This application shall be sent to: U.S. Department of Labor, Mine Safety and Health Administration, Approval and Certification Center, 765 Technology Drive, Triadelphia, WV 26059, together with the required drawings, one complete lamp, and instructions for its operation. * * *

* * * * *

21. Section 20.5 is amended by revising the second sentence of paragraph (a) to read as follows:

§ 20.5 Conditions governing investigations.

(a) * * * This material should be sent prepaid to the U.S. Department of Labor, Mine Safety and Health Administration, Approval and Certification Center, 765 Technology Drive, Triadelphia, WV 26059.

* * * * *

22. Section 20.14 is amended by revising the first sentence of paragraph (a)(1) to read as follows:

§ 20.14 Instructions for handling future changes in lamp design.

* * * * *

(a)(1) The manufacturer shall write to the U.S. Department of Labor, Mine Safety and Health Administration, Approval and Certification Center, 765 Technology Drive, Triadelphia, WV 26059, requesting an extension of the original approval and describing the change or changes proposed. * * *

* * * * *

PART 22—PORTABLE METHANE DETECTORS

23. The authority citation for part 22 continues to read as follows:

Authority: 30 U.S.C. 957 and 961.

24. Section 22.4 is amended by revising the second sentence of paragraph (a) to read as follows:

§ 22.4 Application procedures and requirements.

(a) * * * This application shall be sent to: U.S. Department of Labor, Mine Safety and Health Administration, Approval and Certification Center, 765 Technology Drive, Triadelphia, WV 26059, together with the required drawings, one complete detector, and instructions for its operation. * * *

* * * * *

25. Section 22.5 is amended by revising paragraph (a) to read as follows:

§ 22.5 Conditions governing investigations.

(a) One complete detector, with assembly and detail drawings that show the construction of the device and the materials of which it is made, should be forwarded prepaid to the U.S. Department of Labor, Mine Safety and Health Administration, Approval and Certification Center, 765 Technology Drive, Triadelphia, WV 26059, at the time the application for tests is made.

* * * * *

26. Section 22.11 is amended by revising the first sentence of paragraph (a)(1) to read as follows:

§ 22.11 Instructions on handling future changes in design.

* * * * *

(a)(1) The manufacturer must write to the U.S. Department of Labor, Mine Safety and Health Administration, Approval and Certification Center, 765 Technology Drive, Triadelphia, WV 26059, requesting an extension of the original approval and stating the change or changes desired. * * *

* * * * *

PART 23—TELEPHONES AND SIGNALING DEVICES

27. The authority citation for part 23 continues to read as follows:

Authority: 30 U.S.C. 957 and 961.

28. Section 23.3 is amended by revising the second sentence of paragraph (a) to read as follows:

§ 23.3 Application procedures and requirements.

(a) * * * This application shall be sent to: U.S. Department of Labor, Mine Safety and Health Administration, Approval and Certification Center, 765 Technology Drive, Triadelphia, WV 26059, together with the required drawings, one complete telephone or signaling device, and instructions for its operation. * * *

* * * * *

29. Section 23.5 is amended by revising the second sentence of paragraph (a) to read as follows:

§ 23.5 Conditions governing investigations.

(a) * * * These shall be sent prepaid to: Approval and Certification Center, 765 Technology Drive, Triadelphia, WV 26059.

* * * * *

30. Section 23.14 is amended by revising the first sentence of paragraph (a)(1) to read as follows:

§ 23.14 Instructions for handling future changes in design.

* * * * *

(a)(1) The manufacturer shall write to the U.S. Department of Labor, Mine Safety and Health Administration, Approval and Certification Center, 765 Technology Drive, Triadelphia, WV 26059, requesting an extension of the original approval and stating the change or changes desired. * * *

* * * * *

PART 27—METHANE-MONITORING SYSTEMS

31. The authority citation for part 27 continues to read as follows:

Authority: 30 U.S.C. 957 and 961.

32. Section 27.3 is amended by revising the first sentence to read as follows:

§ 27.3 Consultation.

By appointment, applicants or their representatives may visit the U.S. Department of Labor, Mine Safety and Health Administration, Approval and Certification Center, 765 Technology Drive, Triadelphia, WV 26059, to discuss with qualified MSHA personnel proposed methane-monitoring systems to be submitted in accordance with the regulations of this part. * * *

* * * * *

33. Section 27.4 is amended by revising the second sentence of paragraph (a)(1) to read as follows:

§ 27.4 Application procedures and requirements.

(a)(1) * * * The application and all related matters and correspondence shall be addressed to: U.S. Department of Labor, Mine Safety and Health Administration, Approval and Certification Center, 765 Technology Drive, Triadelphia, WV 26059. * * *

* * * * *

PART 28—FUSES FOR USE WITH DIRECT CURRENT IN PROVIDING SHORT-CIRCUIT PROTECTION FOR TRAILING CABLES IN COAL MINES

34. The authority citation for part 28 continues to read as follows:

Authority: 30 U.S.C. 957 and 961.

35. Section 28.10 is amended by revising the first sentence of paragraph (c) to read as follows:

§ 28.10 Application procedures.

* * * * *

(c) Upon satisfactory completion by the independent testing laboratory of the examination, inspection, and testing requirements of this part, the data and results of such examination, inspection, and tests shall be certified by both the applicant and the laboratory and shall be sent for evaluation of such data and results to the U.S. Department of Labor, Mine Safety and Health Administration, Approval and Certification Center, 765 Technology Drive, Triadelphia, WV 26059. * * *

* * * * *

36. Section 28.31 is amended by revising the second sentence of paragraph (b) to read as follows:

§ 28.31 Quality control plans; contents.

* * * * *

(b) * * * Military Specification MIL-F-15160D is available for examination at the U.S. Department of Labor, Mine Safety and Health Administration, Approval and Certification Center, 765 Technology Drive, Triadelphia, WV 26059. * * *

* * * * *

37. Section 28.40 is amended by revising the second sentence of paragraph (d) to read as follows:

§ 28.40 Construction and performance requirements; general.

* * * * *

(d) * * * This document is available for examination at the U.S. Department of Labor, Mine Safety and Health Administration, Approval and Certification Center, 765 Technology Drive, Triadelphia, WV 26059, and copies of the document are available from COMM 2000, 1414 Brook Drive, Downers Grove, IL 60515; Telephone: 888-853-3512 (toll free); http://ulstandardsinfonet.ul.com.

* * * * *

PART 33—DUST COLLECTORS FOR USE IN CONNECTION WITH ROCK DRILLING IN COAL MINES

38. The authority citation for part 33 continues to read as follows:

Authority: 30 U.S.C. 957 and 961.

39. Section 33.3 is amended by revising the first sentence to read as follows:

§ 33.3 Consultation.

By appointment, applicants or their representatives may visit the U.S. Department of Labor, Mine Safety and Health Administration, Approval and Certification Center, 765 Technology Drive, Triadelphia, WV 26059, to discuss with MSHA personnel proposed designs of equipment to be submitted in accordance with the regulations of this part. * * *

40. Section 33.6 is amended by revising the second sentence of paragraph (a)(1) to read as follows:

§ 33.6 Application procedures and requirements.

(a)(1) * * * The application and all related matters and correspondence shall be addressed to: U.S. Department of Labor, Mine Safety and Health Administration, Approval and Certification Center, 765 Technology Drive, Triadelphia, WV 26059. * * *

* * * * *

PART 35—FIRE-RESISTANT HYDRAULIC FLUIDS

41. The authority citation for part 35 continues to read as follows:

Authority: 30 U.S.C. 957 and 961.

42. Section 35.3 is amended by revising the first sentence to read as follows:

§ 35.3 Consultation.

By appointment, applicants or their representatives may visit the U.S. Department of Labor, Mine Safety and Health Administration, Approval and Certification Center, 765 Technology Drive, Triadelphia, WV 26059, to discuss with qualified MSHA personnel proposed fluids to be submitted in accordance with the regulations of this part. * * *

43. Section 35.6 is amended by revising the second sentence of paragraph (a)(1) and the third sentence of paragraph (g) to read as follows:

§ 35.6 Application procedures and requirements.

(a)(1) * * * The application and all related matters and correspondence shall be addressed to: U.S. Department of Labor, Mine Safety and Health Administration, Approval and Certification Center, 765 Technology Drive, Triadelphia, WV 26059. * * *

* * * * *

(g) * * * All samples and related materials required for testing must be delivered (charges prepaid) to: U.S. Department of Labor, Mine Safety and Health Administration, Approval and Certification Center, 765 Technology Drive, Triadelphia, WV 26059.

PART 36—APPROVAL REQUIREMENTS FOR PERMISSIBLE MOBILE DIESEL-POWERED TRANSPORTATION EQUIPMENT

44. The authority citation for part 36 continues to read as follows:

Authority: 30 U.S.C. 957 and 961.

45. Section 36.3 is amended by revising the first sentence to read as follows:

§ 36.3 Consultation.

By appointment, applicants or their representatives may visit the U.S. Department of Labor, Mine Safety and Health Administration, Approval and Certification Center, 765 Technology Drive, Triadelphia, WV 26059, to discuss with qualified MSHA personnel proposed mobile diesel-powered transportation equipment to be submitted in accordance with the regulations of this part. * * *

46. Section 36.6 is amended by revising the second sentence of paragraph (a)(1) to read as follows:

§ 36.6 Application procedures and requirements.

(a)(1) * * * The application and all related matters and correspondence shall be addressed to: U.S. Department of Labor, Mine Safety and Health Administration, Approval and Certification Center, 765 Technology Drive, Triadelphia, WV 26059. * * *

* * * * *

PART 74—COAL MINE DUST PERSONAL SAMPLER UNITS

47. The authority citation for part 74 continues to read as follows:

Authority: 30 U.S.C. 957 and 961.

48. Section 74.6 is amended by revising the second sentence of paragraph (a) to read as follows:

§ 74.6 Applications.

(a) * * * The applications, together with the drawings and specifications and any other related documents shall be sent to National Institute for Occupational Safety and Health, Department of Health and Human Services, Box 4256, 944 Chestnut Ridge Road, Morgantown, WV 26505, and the U.S. Department of Labor, Mine Safety and Health Administration, Approval and Certification Center, 765 Technology Drive, Triadelphia, WV 26059.

* * * * *

[FR Doc. E8-20795 Filed 9-8-08; 8:45 am]

BILLING CODE 4510-43-P